GENERAL SERVICES ADMINISTRATION

[Notice-CSE-2016-02; Docket No. 2016-0002; Sequence No. 7]

Notice of the General Services Administration's Labor-Management Relations Council Meeting

AGENCY: Office of Human Resources Management (OHRM), General Services Administration (GSA).

ACTION: Notice of meeting.

SUMMARY: The General Services Administration's Labor-Management Relations Council (GLMRC), a Federal Advisory Committee established in accordance with the Federal Advisory Committee Act (FACA), 5 U.S.C., App., and Executive Order 13522, plans to hold a one and one-half day meeting that is open to the public.

DATES: The meeting will be held on Tuesday, April 12, 2016 from 9:30 a.m. to 4:30 p.m. and reconvene Wednesday, April 13, 2016 from 9:30 a.m. to 12:00 noon, Eastern Standard Time.

ADDRESSES: The meeting will be held in Room 1459, in the Conference Center located on the first floor of the General Services Administration's Headquarters Building located at 1800 F Street NW., Washington, DC 20405.

FOR FURTHER INFORMATION CONTACT: Ms. Paula D. Lucak, GLMRC Designated Federal Officer (DFO), OHRM, General Services Administration, at telephone 202-739-1730, or email at gmlrc@gsa.gov.

SUPPLEMENTARY INFORMATION:

Background

The GLMRC is a forum for managers and the exclusive national labor Union representatives of the U.S. General Services Administration (GSA) employees. In this forum, managers and the Unions discuss Government operations to promote satisfactory labor relations and improve the productivity and effectiveness of GSA. The GLMRC serves as a complement to the existing collective bargaining process and allows managers and the Unions to collaborate in continuing to deliver the highest quality services to the public. The Council discusses workplace challenges and problems and recommends solutions that foster a more productive and cost-effective service to the taxpayer, through improving job satisfaction and employees' working conditions.

Agenda

The purpose of the meeting is for the GLMRC to build its collaborative labor-management relationship, discuss the Council's activities and direction ahead for the year, and to consider Agency initiatives. The topics to be discussed include Council metrics & GSA EVS results, employee engagement activities, and human resource initiative updates.

Meeting Access

This site is accessible to individuals with disabilities. In order to gain entry into the Federal building where the meeting is being held, public attendees who are Federal employees should bring their Federal employee identification cards. Members of the general public should bring their driver's license or another form of government-issued identification.

Availability of Materials for the Meeting

Please see the GLRMC Web site: http://www.gsa.gov/portal/content/225831 for any materials available in advance of the meeting and for meeting minutes that will be made available after the meeting. Detailed meeting minutes will be posted within 90 days of the meeting.

Procedures for Providing Public Comments

The public is invited to submit written comments for the meeting until 5:00 p.m. Eastern Time on the Monday prior to the meeting on April 11, 2016, by either of the following methods: Electronic or Paper Statements: Submit electronic statements to Ms. Paula Lucak, Designated Federal Officer, at paula.lucak@gsa.gov; or send paper statements in triplicate to Ms. Lucak at 1800 F Street NW., Suite 7003A, Washington, DC 20405. In general, public comments will be posted on the GLMRC Web site. All comments, including attachments and other supporting materials received, are part of the public record and subject to public disclosure.

Any comments submitted in connection with the GLMRC meeting will be made available to the public under the provisions of the Federal Advisory Committee Act.

Dated: March 21, 2016.
Wade Hannum,
Office of Human Resources Management, OHRM Director, Office of HR Strategy and Services, Center for Talent Engagement (COE4), General Services Administration.

[FR Doc. 2016-06802 Filed 3-24-16; 8:45 am]

BILLING CODE 6820-34-P